DEPARTMENT OF HEALTH AND HUMAN SERVICES

Centers for Disease Control and Prevention

[Docket No. CDC-2015-0049]

Notice of Availability of the Draft Environmental Assessment for HHS/CDC Lawrenceville Campus Proposed Improvements 2015-2025, Lawrenceville, Georgia

AGENCY: Centers for Disease Control and Prevention (CDC), Department of Health and Human Services (HHS).

ACTION: Notice of availability and request for comment.

SUMMARY: The Centers for Disease Control and Prevention (CDC), within the Department of Health and Human Services (HHS), announces the availability and opportunity for public review and comment of the Draft Environmental Assessment (Draft EA) for the HHS/CDC Lawrenceville Campus Proposed Improvements 2015-2025 on the HHS/CDC Lawrenceville Campus, Lawrenceville, Georgia. The Draft EA has been prepared in accordance with the National Environmental Policy Act of 1969 (NEPA), as amended (42 U.S.C. 4321 et seq.), the Council on Environmental Quality (CEQ) implementing regulations (40 CFR 1500-1508) and the HHS General Administration Manual (GAM) Part 30 Environmental Procedures, dated February 25, 2000.

DATES: Written comments must be received on or before September 28, 2015.

ADDRESSES: You may submit comments, identified by Docket No. CDC-2015-0049 by any of the following methods:

• Federal eRulemaking Portal: http://www.regulations.gov. Follow the instructions for submitting comments.

• Mail: Comments submitted by mail should be sent to Angela Wagner, Portfolio Manager, Centers for Disease Control and Prevention, 1600 Clifton Road NE., MS-K96, Atlanta, Georgia 30329, Attn: Docket No. CDC-2015-0049.

Instructions: All submissions received must include the agency name and Docket Number. All relevant comments received will be posted without change to http://regulations.gov, including any personal information provided. For access to the docket to read background documents or comments received, go to http://www.regulations.gov.

Hard copies of the Draft EA are available for review at the following locations:

Gwinnett County Public Library, Lawrenceville Branch, 1001 Lawrenceville Hwy., Lawrenceville, GA 30046, Telephone: (770) 978-5154.

Gwinnett County Public Library, Five Forks Branch, 2780 Five Forks Trickum Road, Lawrenceville, GA 30044-5865, Telephone: (770) 978-5154.

Gwinnett County Public Library, Grayson Branch, 700 Grayson Parkway Grayson, GA 30017-1208, Telephone: (770) 978-5154.

FOR FURTHER INFORMATION CONTACT: Angela Wagner, Portfolio Manager, Centers for Disease Control and Prevention, 1600 Clifton Road NE., MS-K96, Atlanta, Georgia 30329, Telephone: (770) 488-8170.

SUPPLEMENTARY INFORMATION: The Centers for Disease Control and Prevention (CDC) within the U.S. Department of Health and Human Services, has prepared an Environmental Assessment (EA), to assess the potential impacts associated with the undertaking of proposed improvements on the HHS/CDC's Lawrenceville Campus located at 602 Webb Gin House Road in Lawrenceville, Georgia. The proposed improvements include (1) building demolition; (2) new building construction, including an approximately 12,000 gross square feet (gsf) Science Support Building, a new Transshipping and Receiving Area at approximately 2,500 gsf and two new Office Support Buildings at approximately 8,000 gsf and 6,000 gsf; (3) expansion and relocation of parking on campus; and (4) the creation of an additional point of access to the campus. The proposed improvements would be undertaken between 2015 and 2025 and are contingent on receipt of funding.

Since the original construction of the campus in the early 1960's, only minor changes to the Lawrenceville Campus have occurred. These changes have primarily focused on repairs or renovations to existing buildings. A collaborative and integrated planning process was undertaken by HHS/CDC staff in order to assess existing conditions on the Lawrenceville Campus and to identify any potential growth or shifts in program space use, based on longterm support of HHS/CDC's scientific mission and HHS/CDC operational requirements.

The proposed improvements are needed to maintain an appropriate facilities quality level on the Lawrenceville Campus. HHS/CDC has identified the need for new research support, and office support space to replace existing aging structures; expanded research support and office support space; and a new transshipping and receiving area to improve the movement of goods and visitors through the campus. HHS/CDC would also relocate and expand parking to satisfy a current shortfall of parking during special events and to comply with security requirements. A secondary point of access to the campus would be developed in order to provide for an emergency egress and ingress for the campus. Finally, HHS/CDC proposes to improve pedestrian infrastructure to provide a safe, high-quality pedestrian environment within the campus.

The Draft EA evaluates the potential environmental impacts that may result from the Build Alternative and the No Build Alternative on the natural and built environment. Potential impacts of each alternative are evaluated on the following resource categories: Socioeconomics; land use; zoning; public policy; community facilities; transportation; air quality; noise; cultural resources; urban design and visual resources; natural resources; utilities; waste; and greenhouse gases and sustainability.

Dated: August 3, 2015.
Pamela J. Cox,
Director, Division of the Executive Secretariat, Office of the Chief of Staff, Centers for Disease Control and Prevention.

[FR Doc. 2015-19861 Filed 8-13-15; 8:45 am]

BILLING CODE 4163-18-P